DEPARTMENT OF ENERGY

Federal Energy Regulatory Commission

Combined Notice of Filings #1

Take notice that the Commission received the following electric rate filings:

Docket Numbers: ER10-1819-023; ER10-1820-026; ER10-1874-009; ER19-9-003.

Applicants: Northern States Power Company (a Minnesota Corporation), Northern States Power Company (a Wisconsin Corporation), Mankato Energy Center, LLC, Mankato Energy Center II, LLC.

Description: Notice of Change in Status of Northern States Power Company, a Minnesota corporation, et al.

Filed Date: 2/18/20.

Accession Number: 20200218-5252.

Comments Due: 5 p.m. ET 3/10/20.

Docket Numbers: ER19-467-004.

Applicants: New York Independent System Operator, Inc.

Description: Compliance filing: Compliance Energy Storage—Order No. 841 to be effective 12/31/9998.

Filed Date: 2/18/20.

Accession Number: 20200218-5208.

Comments Due: 5 p.m. ET 3/10/20.

Docket Numbers: ER19-708-001.

Applicants: GSG, LLC.

Description: Report Filing: Refund Report Filing to be effective N/A.

Filed Date: 2/19/20.

Accession Number: 20200219-5005.

Comments Due: 5 p.m. ET 3/11/20.

Docket Numbers: ER19-1960-002.

Applicants: Midcontinent Independent System Operator, Inc.

Description: Compliance filing: 2020-02-18_Attachment X Compliance for Order 845 to be effective 12/20/2019.

Filed Date: 2/19/20.

Accession Number: 20200219-5079.

Comments Due: 5 p.m. ET 3/11/20.

Docket Numbers: ER19-2050-004.

Applicants: Midcontinent Independent System Operator, Inc, GridLiance Heartland LLC.

Description: Compliance filing: 2020-02-19_GridLiance Formula Rate Settlement Compliance Filing to be effective 12/31/9998.

Filed Date: 2/19/20.

Accession Number: 20200219-5061.

Comments Due: 5 p.m. ET 3/11/20.

Docket Numbers: ER20-511-002.

Applicants: Wilderness Line Holdings, LLC.

Description: Tariff Amendment: Resubmission of Open Access Transmission Tariff to be effective 2/20/2020.

Filed Date: 2/19/20.

Accession Number: 20200219-5075.

Comments Due: 5 p.m. ET 3/11/20.

Docket Numbers: ER20-529-002.

Applicants: Wilderness Line Holdings, LLC.

Description: Tariff Amendment: Resubmission of Windstar LGIA & TSA to be effective 12/31/9998.

Filed Date: 2/19/20.

Accession Number: 20200219-5086.

Comments Due: 5 p.m. ET 3/11/20.

Docket Numbers: ER20-1032-000.

Applicants: PJM Interconnection, L.L.C.

Description: § 205(d) Rate Filing: Original WMPA SA No. 5592; Queue No. AE2-055 to be effective 1/22/2020.

Filed Date: 2/19/20.

Accession Number: 20200219-5055.

Comments Due: 5 p.m. ET 3/11/20.

Docket Numbers: ER20-1033-000.

Applicants: Portsmouth Genco, LLC, Portsmouth Genco, LLC.

Description: Notice of Cancellation of Market-Based Rate Tariff of Portsmouth Genco, LLC.

Filed Date: 2/18/20.

Accession Number: 20200218-5270.

Comments Due: 5 p.m. ET 3/10/20.

Docket Numbers: ER20-1034-000.

Applicants: Consolidated Edison Company of New York, Inc, New York Independent System Operator, Inc.

Description: § 205(d) Rate Filing: Amended Interconnection Agreement (SA1162)—Con Edison NY/NJ Port Authority to be effective 2/19/2020.

Filed Date: 2/19/20.

Accession Number: 20200219-5059.

Comments Due: 5 p.m. ET 3/11/20.

Docket Numbers: ER20-1035-000.

Applicants: Southern California Edison Company.

Description: Tariff Cancellation: Notice of Termination of SA Nos. 32 and 33 PAPCO to be effective 5/9/2020.

Filed Date: 2/19/20.

Accession Number: 20200219-5062.

Comments Due: 5 p.m. ET 3/11/20.

Docket Numbers: ER20-1036-000.

Applicants: The Potomac Edison Company, PJM Interconnection, L.L.C.

Description: § 205(d) Rate Filing: Potomac Edison submits revisions to OATT, Attachment H-11A re: OSFC to be effective 4/20/2020.

Filed Date: 2/19/20.

Accession Number: 20200219-5063.

Comments Due: 5 p.m. ET 3/11/20.

Docket Numbers: ER20-1037-000.

Applicants: Southern California Edison Company.

Description: § 205(d) Rate Filing: Amended GIA & Service Agreement Difwind Farms Ltd V, SA Nos. 991-992 WDT1130QFC to be effective 4/20/2020.

Filed Date: 2/19/20.

Accession Number: 20200219-5065.

Comments Due: 5 p.m. ET 3/11/20.

Docket Numbers: ER20-1038-000.

Applicants: Pacific Gas and Electric Company.

Description: § 205(d) Rate Filing: 2-19-20 Unexecuted Agreements, City and County of San Francisco WDT SA (SA 275) to be effective 4/20/2020.

Filed Date: 2/19/20.

Accession Number: 20200219-5103.

Comments Due: 5 p.m. ET 3/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2020.
Nathaniel J. Davis, Sr.,
Deputy Secretary.

[FR Doc. 2020-03702 Filed 2-24-20; 8:45 am]

BILLING CODE 6717-01-P